DEPARTMENT OF ENERGY

Federal Energy Regulatory Commission

[Docket No. CP03-75-000]

In Reply Refer To: OEP/DG2E/Gas Branch 2 Freeport LNG Development, L.P.

April 6, 2004.

To the Party Addressed: The staff of the Federal Energy Regulatory Commission (FERC or Commission) has prepared this Draft General Conformity Determination to assess the potential air quality impacts associated with the construction and operation of a liquefied natural gas (LNG) import terminal and natural gas pipeline proposed by Freeport LNG Development, L.P. (Freeport LNG), referred to as the Freeport LNG Project, in the above-referenced docket.

This Draft General Conformity Determination was prepared to satisfy the requirements of the Clean Air Act.

Comment Procedures

Any person wishing to comment on this Draft General Conformity Determination may do so. To ensure consideration of your comments in the Final General Conformity Determination, it is important that we receive your comments before the date specified below. Please carefully follow these instructions to ensure that your comments are received in time and properly recorded:

• Send an original and two copies of your comments to: Magalie R. Salas, Secretary, Federal Energy Regulatory Commission, 888 First St., NE., Room 1A, Washington, DC 20426;

• Reference Docket No. CP03-75-000;

• Label one copy of your comments for the attention of Gas Branch 2; PJ11.2; and;

• Mail your comments so that they will be received in Washington, DC on or before May 12, 2004.

Please note that we are continuing to experience delays in mail deliveries from the U.S. Postal Service. The Commission strongly encourages electronic filing of any comments on this Draft General Conformity Determination. See 18 CFR 385.2001(a)(1)(iii) and the instructions on the Commission's Web site at http://www.ferc.gov under the “e-Filing” link and the link to the User's Guide. Before you can file comments you will need to create a free account which can be created online.

After all comments are reviewed, the staff will publish and distribute a Final General Conformity Determination for the Project.

Linda Mitry,
Acting Secretary.

[FR Doc. E4-815 Filed 4-13-04; 8:45 am]

BILLING CODE 6717-01-P